DEPARTMENT OF THE INTERIOR

Fish and Wildlife Service

Togiak National Wildlife Refuge, Dillingham, AK

AGENCY: U.S. Fish and Wildlife Service, Interior.

ACTION: Notice of availability of the Draft Revised Comprehensive Conservation Plan, Draft Revised Public Use Management Plan, and Environmental Assessment for Togiak National Wildlife Refuge; request for comments.

SUMMARY: We, the U.S. Fish and Wildlife Service (Service, we) announce that the Draft Revised Comprehensive Conservation Plan (CCP) and Environmental Assessment (EA) and Draft Revised Public Use Management Plan (PUMP) and EA for Togiak National Wildlife Refuge is available for public comment. This Draft CCP/PUMP/EA describes how the Service intends to manage the Togiak Refuge for the next 15 years.

DATES: We must receive written comments on the draft CCP/PUMP/EA by January 18, 2008.

ADDRESSES: To provide written comments or to request a paper copy or a compact disk of the Draft CCP/PUMP/EA, contact Maggi Arend, Planning Team Leader, Division of Comprehensive Planning and Policy, MS 231, 1011 East Tudor Road, Anchorage, AK 99503-6199, phone 907-786-3393, fax 907-786-3965 or electronically at fw7_togiak_planning@fws.gov. You may also view or download the plan at: http://alaska.fws.gov/nwr/planning/togpol.htm. Copies of the Draft plan may be viewed at the Togiak Refuge Office in Dillingham, Alaska; local area libraries, and the U.S. Fish and Wildlife Service Regional Office in Anchorage, Alaska.

FOR FURTHER INFORMATION CONTACT: Maggi Arend at the above address or phone number.

SUPPLEMENTARY INFORMATION: The Alaska National Interest Lands Conservation Act (ANILCA) (16 U.S.C. 410hh et seq., 43 U.S.C. 1602 et seq.) requires development of a CCP for all national wildlife refuges in Alaska. The Draft CCP for Togiak Refuge was developed consistent with Section 304(g) of ANILCA and the Refuge Administration Act as amended by the Refuge Improvement Act (16 U.S.C. 668dd et seq.). The purpose of developing CCPs is to provide refuge managers with a 15-year strategy for achieving refuge purposes and contributing toward the mission of the National Wildlife Refuge System, consistent with sound principles of fish, wildlife, and habitat management and conservation; legal mandates; and Service policies. Plans define long-term goals and objectives toward which refuge management activities are directed and identify which uses may be compatible with the purposes of the refuge. They identify wildlife-dependent recreation opportunities available to the public, including hunting, fishing, wildlife observation and photography, and environmental education and interpretation. Comprehensive conservation plans are updated in accordance with planning direction in Section 304(g) of ANILCA and with NEPA (42 U.S.C. 4321 et seq.).

Togiak Refuge was established as Cape Newenham National Wildlife Refuge in 1969 to protect and preserve the outstanding wildlife values, including bird colonies and important habitat for other terrestrial and marine wildlife. The refuge was expanded to 4,156,522 acres and established as Togiak National Wildlife Refuge in 1980 by ANILCA. The Togiak Refuge CCP was approved in 1987. The PUMP was approved in 1991 and incorporated the State of Alaska Special Land Use Designation for the management of State lands within the boundary of the refuge and including the lower Goodnews River drainage. The current document includes revisions of each of these three plans. The core planning team, which developed the range of alternatives for the CCP/PUMP, included representatives of the State of Alaska and five recognized Native Alaskan tribes from the vicinity of the refuge.

Comprehensive Plan

This Draft CCP describes and evaluates two alternatives for managing Togiak Refuge for the next 15 years.

Alternative 1: This alternative encompasses policy development, changes, and clarifications made in the years since the implementation of the original Comprehensive Plan in 1987. It also includes a refuge vision statement, goals, objectives, and certain strategies which will guide refuge management into the future. Restrictions on helicopter use for recreational purposes would be maintained.

Alternative 2 (Current Management): Under this alternative, the Refuge would continue to implement current management as outlined in the 1987 Comprehensive Plan. The Refuge would continue to be managed much as it is today, but without goals and objectives.

Public Use Plan

The Draft Public Use Management Plan describes and evaluates five alternatives for managing public use on Togiak Refuge. These alternatives address four issues: public use at Cape Peirce Wildlife Viewing Area; unguided recreational opportunites in the Kanektok and Goodnews river watersheds; human waste management; and commercial sport fishing guide opportunities.

Alternative A: This alternative would carry forward existing management into the future. At Cape Peirce, management would emphasize wildlife viewing that complements the research and study of fish, wildlife, plants, and their habitats and would continue current limits on visitors to the area. There would be no limits on unguided recreational users on the Kanektok and Goodnews rivers and no additional management of human waste disposal. Commercial sport fishing guide opportunities would remain at current levels.

Alternative B: This alternative makes limited adjustments to current management. At Cape Peirce, management would remain the same except that 50% of permits would be allocated to the general public. Unguided use of the Kanektok River watershed would be limited to the same levels currently allowed for guided use. On the Goodnews River, unguided use would be limited to the current level of use. Commercial sport fishing guide opportunities would be expanded on the middle fork of the Goodnews River.

Alternative C (the preferred alternative): Under this alternative, adjustments would be made to management in each of the issue areas. At Cape Peirce, management would facilitate wildlife viewing that complements the protection and preservation of the area's natural and cultural resource values and opportunities for visitation would be doubled. The allocation of permits would be the same as Alternative B, but at low use levels the refuge manager may waive the requirement for permits. Minimal facilities could be constructed for public health and safety. Limits on the unguided recreational use of the Kanektok and Goodnews rivers would be established for the peak use periods only. The refuge would work with partners to facilitate the voluntary use of approved disposal sites for human waste. Guided motorized access to the North Fork Goodnews River would be limited from current maximum allowable levels but would be above current use levels.

Alternative D: This alternative would provide additional opportunities for commercially guided recreation throughout the refuge. At Cape Peirce, opportunities for visiting the area would be doubled from current levels and would be commercially guided. Unguided recreation on the Kanektok and Goodnews rivers would remain unrestricted. Additional commercial sport fishing guide opportunities would be provided on the Goodnews, Togiak, Osviak, and Matogak rivers.

Alternative E: This alternative would reduce the level of use on the Kanektok and Goodnews rivers and implement a human waste pack out program on the Kanektok River. It would also provide additional opportunities for public use at Cape Peirce. Commercial sport fishing guide opportunities would be continued at current levels.

Public Availability of Comments

Before including your name, address, phone number, e-mail address, or other personal identifying information in your comment, you should be aware that your entire comment—including your personal identifying information—may be made publicly available at any time. While you can ask us in your comment to withhold your personal identifying information from public review, we cannot guarantee that we will be able to do so.

Dated: September 21, 2007.
Thomas O. Melius,
Regional Director, U.S. Fish & Wildlife Service, Anchorage, Alaska.

[FR Doc. E7-19086 Filed 9-26-07; 8:45 am]

BILLING CODE 4310-55-P